FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than April 10, 2020.

A. Federal Reserve Bank of Kansas City (Dennis Denney, Assistant Vice President) 1 Memorial Drive, Kansas City, Missouri 64198-0001:

1. ACB GST Trust, Aaron Bastian, trustee; SCH GST Trust, Sarah Hampton, trustee; BTB Trust 2019 and EMB Trust 2019, Michelle Bastian, trustee; NWH Trust 2019, Brock Hampton, trustee; and Amanda Walker, Special Trustee of the BTB Trust 2019, the EMB Trust 2019, and the NWH Trust 2019; all of Wichita, Kansas; as members of the Bastian Family Group to acquire voting shares of Fidelity Financial Corporation and thereby indirectly acquire voting shares of Fidelity Bank of Wichita, both of Wichita, Kansas. Aaron Bastian, Sarah Hampton, Michelle Bastian, and Brock Hampton were approved in 2019 as members of the Bastian Family Group.

2. The Bergmann 2011 Irrevocable Trust, Alma F. Bergmann, Trustee, Bow Mar, Colorado; as a member of the Bergman Family Group to retain voting shares of AMG National Corp., Greenwood Village, Colorado, and thereby indirectly retain voting shares of AMG National Trust Bank, Boulder, Colorado. Alma Bergmann was approved previously as a member of the Bergman Family Group.

3. Adam Duston Rainbolt, Jacob Patrick Rainbolt and Samuel Johnson Rainbolt, all of Oklahoma City, Oklahoma; as members of the Rainbolt Family Group to acquire voting shares of BancFirst Corporation, Oklahoma City, Oklahoma, and thereby indirectly acquire voting shares of BancFirst, Oklahoma City, Oklahoma and Pegasus Bank, Dallas, Texas.

Board of Governors of the Federal Reserve System, March 23, 2020.
Yao-Chin Chao,
Assistant Secretary of the Board.

[FR Doc. 2020-06347 Filed 3-25-20; 8:45 am]

BILLING CODE 6210-01-P